DEPARTMENT OF AGRICULTURE

Animal and Plant Health Inspection Service

[Docket No. 01-117-1]

Procedures for Importing Cattle into the United States; Public Meeting

AGENCY: Animal and Plant Health Inspection Service, USDA.

ACTION: Notice of public meeting.

SUMMARY: We are informing the public that Veterinary Services of the Animal and Plant Health Inspection Service is holding a public meeting to provide a forum to discuss the process and science used to establish and verify compliance with protocols for importing cattle into the United States.

DATES: The meeting will be held on Wednesday, February 6, 2002, from 9 a.m. to 5 p.m.

ADDRESSES: The public meeting will be held in the Columbine Room at the Lincoln Center, 417 West Magnolia, Fort Collins, CO.

FOR FURTHER INFORMATION CONTACT: Dr. Andrea M. Morgan, Acting Director, Animal Health Programs, VS, APHIS, 4700 River Road Unit 33, Riverdale, MD 2073-1231; (301) 734-8093.

SUPPLEMENTARY INFORMATION: The Animal and Plant Health Inspection Service (APHIS) of the U.S. Department of Agriculture is responsible for administering regulations to prevent the introduction of communicable diseases of livestock and poultry into the United States. In administering the regulations, we follow an import process that includes, among other things, developing an import protocol between the exporting and importing countries or regions, monitoring the disease status of countries or regions, quarantining and testing imported animals, and evaluating the risk of introducing disease into the United States through the importation of animals.

APHIS seeks to establish the import protocols between the exporting and importing countries or regions based upon the best available technical and scientific information. The protocols establish health requirements, including the disease status of the region or country of origin and diagnostic test requirements for specific diseases, under which importation of animals is allowed.

To provide a forum to discuss the process and science used to establish and verify compliance with protocols for importing cattle into the United States, APHIS' Veterinary Services program is holding a public meeting on Wednesday, February 6, 2002, in the Columbine Room at the Lincoln Center, 417 West Magnolia, Fort Collins, CO. Topics discussed at the meeting will include, but are not limited to, the disease status of exporting regions or countries, transportation issues, quarantine issues, and the risk of the introduction of disease into the United States from the importation of cattle.

The public meeting will begin at 9 a.m. and is scheduled to end at 5 p.m., with registration from 8:30 a.m. to 9 a.m. However, the meeting may end earlier if all persons desiring to speak have been heard.

If you require special accommodations, such as a sign language interpreter, please send us an e-mail to regulations@aphis.usda.gov.

If you are interested in making a presentation at the meeting, please register in advance by calling the Regulatory Analysis and Development voice mail at (301) 734-4339 or by sending an e-mail to regulations@aphis.usda.gov. The message should include your name, telephone number, organization, if any, and the topic of your presentation. On the day of the meeting, you may also register from 8:30 to 9 a.m. at the meeting site.

To allow everyone wishing to speak an opportunity to be heard, participants should limit their presentations to 10 minutes. Depending upon the number of speakers, we may further limit the time for presentations so that everyone wishing to speak has the opportunity. Starting with the advance registrants, we will call speakers in the order in which they registered.

If you plan to present a written statement, we ask that you provide a copy of your statement to the chairperson of the meeting.

The meeting will be recorded. The complete record, including the transcript and any written statements, will be available to the public.

Done in Washington, DC, this 7th day of January 2002.
W. Ron DeHaven,
Acting Administrator, Animal and Plant Health Inspection Service.

[FR Doc. 02-743 Filed 1-10-02; 8:45 am]

BILLING CODE 3410-34-P